ENVIRONMENTAL PROTECTION AGENCY

[EPA-HQ-OW-2016-0178; FRL-9992-55-OW]

Proposed Information Collection Request; Comment Request; EPA Application Materials for the Water Infrastructure Finance and Innovation Act

AGENCY: Environmental Protection Agency (EPA).

ACTION: Notice.

SUMMARY: The Environmental Protection Agency (EPA) is planning to submit an information collection request (ICR), “EPA Application Materials for the Water Infrastructure Finance and Innovation Act” (EPA ICR No. 2549.02, OMB Control No. 2040-0292) to the Office of Management and Budget (OMB) for review and approval in accordance with the Paperwork Reduction Act. Before doing so, EPA is soliciting public comments on specific aspects of the proposed information collection as described below. This is a request for approval of a renewal. An Agency may not conduct or sponsor and a person is not required to respond to a collection of information unless it displays a currently valid OMB control number.

DATES: Comments must be submitted on or before June 24, 2019.

ADDRESSES: Submit your comments, referencing Docket ID No. EPA-HQ-OW-2016-0178, online using www.regulations.gov (our preferred method), or by mail to: EPA Docket Center, Environmental Protection Agency, Mail Code 28221T, 1200 Pennsylvania Ave. NW, Washington, DC 20460.

EPA's policy is that all comments received will be included in the public docket without change, including any personal information provided, unless the comment includes profanity, threats, information claimed to be Confidential Business Information (CBI), or other information whose disclosure is restricted by statute.

FOR FURTHER INFORMATION CONTACT: Arielle Gerstein, Water Infrastructure Division, Office of Wastewater Management, 4201-T, Environmental Protection Agency, 1200 Pennsylvania Ave. NW, Washington, DC 20460; telephone number: 202-566-1868; email address: gerstein.arielle@epa.gov.

SUPPLEMENTARY INFORMATION: Supporting documents which explain in detail the information EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the Paperwork Reduction Act (44 U.S.C. 3501 et seq.), EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The collection of information is necessary in order to receive applications for credit assistance pursuant to section 5024 of the Water Infrastructure Finance and Innovation Act (WIFIA) of 2014, 33 U.S.C. 3903. The purpose of the WIFIA program is to provide Federal credit assistance in the form of direct loans and loan guarantees to eligible clean water and drinking water projects.

WIFIA requires that an eligible entity submit to the EPA Administrator an application at such time, in such manner, and containing such information, as the EPA Administrator may require to receive assistance under WIFIA. In order to satisfy these requirements, EPA must collect an application from prospective borrowers seeking funding. The Letters of Interest and Applications collected from prospective borrowers through this solicitation will be used by the EPA, WIFIA program staff, and reviewers to evaluate applications for credit assistance under the WIFIA eligibility requirements and selection criteria.

Form Numbers:

SWIFIA Application—6100-030

SWIFIA Letter of Interest—6100-031

WIFIA Application—6100-032

WIFIA Letter of Interest—6100-033

Respondents/affected entities: The respondents affected by this collection activity include: corporations, partnerships, joint ventures, trusts, federal, state, or local government entities, tribal governments or a consortium of tribal governments, and state infrastructure finance authorities. The Letters of Interest and Applications collected from prospective borrowers through this solicitation will be used by EPA to evaluate requests for credit assistance under the WIFIA eligibility requirements and selection criteria.

Respondent's obligation to respond: The collection is required to obtain credit assistance pursuant to section 5024 of WIFIA, 33 U.S.C. 3903.

Estimated number of respondents: 100 per year (total).

Frequency of response: one per funding round.

Total estimated burden: 8,700 hours (per year). Burden is defined at 5 CFR 1320.03(b).

Total estimated cost: $15,109,113.40 (per year), includes no annualized capital or operation and maintenance costs.

Dated: April 12, 2019.
Andrew D. Sawyers,
Director, Office of Wastewater Management.

[FR Doc. 2019-08158 Filed 4-22-19; 8:45 am]

BILLING CODE 6560-50-P